DEPARTMENT OF AGRICULTURE

Cooperative State Research, Education, and Extension Service; Notice of Intent To Revise and Extend a Currently Approved Information Collection

AGENCY: Cooperative State Research, Education, and Extension Service, USDA.

ACTION: Notice and request for comments.

SUMMARY: In accordance with the Office of Management and Budget (OMB) regulations (5 CFR Part 1320) that implement the Paperwork Reduction Act of 1995 (44 U.S.C. 3501, et seq.), this notice announces the Cooperative State Research, Education, and Extension Service's (CSREES) intention to request approval to revise and extend a currently approved information collection for the Expanded Food and Nutrition Education Program (EFNEP).

DATES: Written comments on this notice must be received by September 15, 2008 to be assured of consideration. Comments received after that date will be considered to the extent practicable.

ADDRESSES: You may submit comments by any of the following methods: Federal eRulemaking Portal: http://regulations.gov. Follow the instructions for submitting comments. E-mail: jhitchcock@csrees.usda.gov; Mail: Jason Hitchcock, Information Systems and Technology Management, USDA/CSREES, STOP 2216, 1400 Independence Avenue, SW., Washington, DC 20250-2216; Hand Delivery/Courier: Jason Hitchcock, Information Systems and Technology Management, USDA/CSREES, 800 9th Street, SW., Room 4217, Waterfront Centre, Washington, DC 20024.

FOR FURTHER INFORMATION CONTACT: Jason Hitchcock, (202) 720-4343.

SUPPLEMENTARY INFORMATION: Title: Expanded Food and Nutrition Education Program.

OMB Number: 0524-0044.

Expiration Date of Current Approval: January 31, 2009.

Type of Request: Intent to seek approval to revise and extend a currently approved information collection for three years.

Abstract: The U.S. Department of Agriculture's (USDA) CSREES Expanded Food and Nutrition Education Program (EFNEP) is a unique program that began in 1969 and is designed to reach limited resource audiences, especially youth and families with young children. Extension professionals train and supervise paraprofessionals and volunteers who teach food and nutrition information and skills to limited resource families and youth. EFNEP operates through the 1862 and 1890 Land-Grant Institutions in all 50 States and in American Samoa, the District of Columbia, Guam, Micronesia, the Northern Marianas, Puerto Rico, and the U.S. Virgin Islands. EFNEP is authorized under section 3(d) of the Smith-Lever Act (7 U.S.C. 343 (d)) and section 1425 of the National Agricultural Research, Extension, and Teaching Policy Act of 1977 (7 U.S.C. 3175).

The objectives of EFNEP are to assist limited resource families and youth in acquiring the knowledge, skills, attitudes, and changed behaviors necessary to obtain nutritionally sound diets, and to contribute to their personal development and the nutritional well-being of the entire family.

CSREES sponsors an integrated data collection process that is used at the county, State, and federal level. The current data collection system, the Nutrition Education Evaluation and Reporting System (NEERS), is an update to the OMB approved Evaluation and Reporting System (E/RS). NEERS has been developed to capture EFNEP impacts. Its purpose is to gauge if the federal assistance provided has had an impact on the target audience. It also enables CSREES staff to make programmatic improvements in delivering nutrition education. Further, the data collected provide information for program management decisions at the local level, and diagnostic assessments of participant needs. Specifications for this system were developed by a committee made up of representatives from across the United States and are in compliance with Federal standards for maintaining, collecting, and presenting data on race and ethnicity and protecting personally identifiable information.

NEERS stores information on: (1) Adult program participants, their family structure and their dietary practices; (2) youth group participants; and (3) staff. NEERS consists of separate software sub-systems for the county and State/territory levels. County data are exported electronically to the State-level systems. University staff import county level data into the State/territory level system. The State/territory level data is used to generate State/territory level reports for stakeholders and to guide program management decisions. States also export State/territory level data electronically to the Federal-level system for State and national assessments of the program's impact. One revision to the software is that NEERS will not have a formal system for data collection at the Federal level. Instead, the State-compiled data will be aggregated using statistical software and then, as before, will be used to create national reports which are made available to the public.

Other revisions to the currently approved information collection include: Receiving latitude and longitude coordinates on people served, and Metropolitan Statistical Area and Congressional District information related to program participation. This feature can be used to illustrate program reach and impact in a targeted way. NEERS also includes a new foods database and revised client impact reports matching the USDA MyPyramid food groupings, quantities consumed, and physical activity measures of clients. This feature allows EFNEP data collection to be consistent with current Federal dietary recommendations.

The evaluation processes of EFNEP remain consistent with the requirements of legislation and OMB requirements. The Government Performance and Results Act of 1993 (GPRA) (Pub. L. 103-62) and the Agricultural Research, Extension, and Education Reform Act of 1998 (AREERA) (Pub. L. 105-185), together with OMB requirements, support the reporting requirements requested in this information collection. One of the five Presidential Management Agenda initiatives, Budget and Performance Integration, builds on GPRA and earlier efforts to identify program goals and performance measures and link them to the budget process. AREERA requires a performance evaluation to be conducted to determine whether federally funded agricultural research, extension, and education programs result in public goods that have national or multistate significance (7 U.S.C. 7671).

Estimate of Burden: The respondents include the 1862 and 1890 Land-Grant Institutions in all 50 States and in American Samoa, the District of Columbia, Guam, Micronesia, the Northern Marianas, Puerto Rico, and the U.S. Virgin Islands. The number of respondents has increased from 56 to 75 institutions (i.e. State/territory level responses annually), thus constituting a total annual estimated burden of 91,982 hours for this data collection process—for participant education and data entry, aggregation, and reporting. Updates to NEERS are still being implemented in some states in FY 08, so burden estimates reflect the previous version of the data collection system.

Comments: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information being collected; and (d) ways to minimize the burden of the collection of information on those who respond, including through the use of appropriate automated, electronic, mechanical, or other technological collection techniques or other forms of information technology.

Obtaining a Copy of the Information Collection: A copy of the information collection and related instructions may be obtained free of charge by contacting Jason Hitchcock by telephone, (202) 720-4343, or by e-mail, jhitchcock@csrees.usda.gov.

Done in Washington, DC, this 10th day of July, 2008.
Merle Pierson,
Deputy Under Secretary, Research, Education, and Economics.

[FR Doc. E8-16149 Filed 7-15-08; 8:45 am]

BILLING CODE 3410-22-P